DEPARTMENT OF ENERGY

Federal Energy Regulatory Commission

[Docket No. RP00-563-000]

Chandeleur Pipe Line Company; Notice of Compliance Filing

September 27, 2000.

Take notice that on September 25, 2000, Chandeleur Pipe Line Company tendered for filing as part of its FERC Gas Tariff, Second Revised Volume No. 1, the following tariff sheets, to become effective November 1, 2000.

Third Revised Sheet No. 43

First Revised Sheet No. 43A

Chandeleur Pipe Line Company asserts that the purpose of this filing is to comply with the Commission's orders issued February 9, 2000, May 19, 2000 and July 26, 2000 in Docket Nos. RM98-10-005 and RM98-12-005, et al. (Orders 637, 637-A and 637-B).

Proposed tariff changes are to conform Chandeleur's tariff language addressing Right of First Refusal and the terms of the Temporary Waiver of Maximum Rate Ceiling in compliance with Commission's Regulations in Sec. 284.221 and Sec. 284.8, respectively. A minor housekeeping change is made due to the Reorganization of Part 284 Regulations in Order 637.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-25314 Filed 10-2-00; 8:45 am]

BILLING CODE 6717-01-M